ENVIRONMENTAL PROTECTION AGENCY

[FRL-7510-7]

State Innovation Grant Program, Preliminary Notice and Request for Input on the Development of a Solicitation for Proposals for 2003/2004 Awards

AGENCY: Environmental Protection Agency (EPA).

ACTION: Notice.

SUMMARY: The U.S. Environmental Protection Agency, Office of Policy, Economics and Innovation (OPEI) is giving a preliminary notice of its intention to solicit proposals for a 2003/2004 grant program to support innovation by state environmental regulatory agencies—the “State Innovation Grant Program.” The Agency is also seeking input from State Environmental Regulatory Agencies on the topic areas for the solicitation. In addition, EPA is asking each State Environmental Regulatory Agency to designate a point of contact at the management level (in addition to the Commissioner or Cabinet Secretary level) who should receive further communication about the upcoming solicitation. EPA anticipates publication of a Federal Register notice to announce the availability of the next solicitation within 60 days.

DATES: State Environmental Regulatory Agencies will have 30 days from the date of publication until [insert date 30 days after publication of this notice in the FR] of this pre-announcement notice in the Federal Register to respond with: (1) Suggestions for broad topic areas (e.g., a subject area and 1-2 paragraphs of description) for the next solicitation; and (2) point of contact information (name, title, mailing address, telephone and fax numbers, and e-mail address) for the person within the State Environmental Regulatory Agency (in addition to Commissioner or Cabinet Secretaries) who should receive future notices about the State Innovation Grants.

ADDRESSES: Information should be sent to: State Innovation Grant Program; Office of Policy, Economics and Innovation; U.S. Environmental Protection Agency (1807T); 1200 Pennsylvania Ave., NW., Washington, DC 20460. Responses may also be sent by fax to (202-566-2220), addressed to the “State Innovation Grant Program,” or by e-mail to: Innovation_State_Grants@EPA.gov. We encourage e-mail responses. If you have questions about responding to this notice, please contact EPA at this e-mail address or fax number, or you may call Gerald Filbin at 202-566-2182. EPA will acknowledge all responses it receives to this notice.

SUPPLEMENTARY INFORMATION:

Background

EPA pilot tested the State Innovation Grant Program with a solicitation in June, 2002 and subsequent awards starting in the fall of 2002. The 2002 Program solicitation focused on “innovation in environmental permitting programs” as they addressed the goals identified in EPA's plan for future innovation, Innovating for Better Environmental Results: A Strategy to Guide the Next Generation of Innovation at EPA (EPA 100-R-02-002; http://www.epa.gov/opei/strategy). The Agency's Innovation Strategy, which will remain key to this year's Solicitation, presents a framework for innovation consisting of four major elements:

(1) Strengthen EPA's innovation partnerships with States and Tribes;

(2) Focus on priority environmental areas:

—Reduce greenhouse gases

—Reduce smog

—Restore and maintain water quality

—Reduce the cost of water and wastewater infrastructure;

(3) Diversify our environmental protection tools and approaches, including:

—Information resources and technology

—Environmental technology

—Incentives

—Environmental Management Systems

—Results-based goals and measures;

(4) Foster “innovation-friendly” systems and organizational.

The 2002 program focused on innovation in permitting, including the use of incentives and the development of Environmental Results Programs (ERPs) such as the one initially developed by Massachusetts and now being adopted by other States. For more information on last year's solicitation, the proposals received, and the 2002 award decisions, please see the Web site at: http://www.epa.gov/innovation/stategrants.

Request for State Input on Solicitation Themes and Priorities

The 2003/2004 State Innovation Grant Program, building on the 2002 pilot program, will seek to strengthen EPA's innovation partnership with States by providing a source of funding to facilitate State efforts to test new models for “next generation” environmental protection that will provide better environmental results, consistent with the goals of EPA's Innovation Strategy.

EPA plans to retain the focus area of “innovation in permitting” (including support for development of Environmental Results Programs) for the upcoming solicitation, but will add other topic areas of mutual interest to this year's solicitation, as well. (These grants will not be applied to the development or demonstration of new environmental technologies.) EPA is including additional focus areas in response to feedback received from States that found “innovation in permitting” to be too narrow a topic to capture their State priorities. Additional areas of competition in the solicitation will provide for development and implementation of other innovative approaches to solving priority environmental problems.

EPA is asking for State environmental regulatory agencies to provide brief (about 1 paragraph) suggestions about additional innovation themes that might be included as subject areas in this solicitation. Specifically, EPA is interested in hearing what activities in addition to permitting States believe are ripe for innovation. EPA will continue to encourage project proposals that address the four priority environmental areas identified above (i.e., reduce greenhouse gases; reduce smog; restore and maintain water quality; reduce the cost of water and wastewater infrastructure) and use tools (i.e., incentives, information, performance measurement, etc.) highlighted in the Innovation Strategy. State Environmental Regulatory Agency respondents should send their suggestions to EPA by mail, e-mail, or fax as described in the “Addresses” section above.

Competition Limited to the State Environmental Regulatory Agency

The competition will be limited to the principal Environmental Regulatory Agency within each State, although these agencies are encouraged to partner with other agencies within the State that have environmental mandates (e.g., natural resources management, transportation, public health, energy). EPA will accept only one proposal from each State and it must be submitted by the principal Environmental Regulatory Agency from that State. States are also encouraged to partner with neighboring States to address cross-boundary issues and to consider partnering with Tribal governments in developing projects and proposals. Multi-state or State-Tribal proposals will be accepted in addition to an individual State proposal, but a State may appear in no more than one multi-State or State-Tribal proposal in addition to their individual State proposal.

EPA is currently working through its American Indian Environmental Office and other Program Offices within the Agency to explore ways to make similar grants available to American Indian Tribes through a parallel process.

Request for State To Designate a Primary Point of Contact

EPA asks that each State Environmental Regulatory Agency designate as a primary point-of-contact, a manager who we will add to the EPA notification list for further announcements about the State Innovation Grant Program. We are asking that this name be submitted with the approval of the highest levels of management within an Agency (Secretary, Commissioner, or their deputies) within 30 days after publication of this notice in the FR July 11, 2003. Please submit this information to EPA as described in the “Addresses” section above.

Dated: June 4, 2003.
Elizabeth Shaw,
Director, Office of Environmental Policy Innovation.

[FR Doc. 03-14745 Filed 6-10-03; 8:45 am]

BILLING CODE 6560-50-P